ENVIRONMENTAL PROTECTION AGENCY

[ER-FRL-8798-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Draft EISs

EIS No. 20090290, ERP No. D-FTA-F54014-WI, Kenosha-Racine-Milwaukee Commuter Rail Extension, Alternative Analysis, U.S. COE Section 404 Permit, Funding, Kenosha, Racine, and Milwaukee Counties, WI.

Summary: EPA expressed environmental concerns about impacts to wetlands and natural areas, and requested additional information on hazardous waste, noise and vibration. Rating EC2.

EIS No. 20090296, ERP No. D-SFW-K90033-CA, Sears Point Wetland and Watershed Restoration Project, To Restore Tidal Wetlands and Rehabilitate Diked Wetlands, Sonoma County, CA.

Summary: EPA expressed environmental concerns about impacts to wetlands and waters from construction activities (trails, roads, and utilities) not related to wetland restoration and to air quality from construction diesel emissions. Rating EC2.

EIS No. 20090107, ERP No. DS-NRS-D36121-WV, Lost River Subwatershed of the Potomac River Watershed Project, Construction of Site 16 on Lower Cove Run and Deletion of Site 23 on Cullers Run in the Lost River Watershed, Change in Purpose for Site 16 and Updates Information Relative to Site 23, U.S. Army COE Section 404 Permit, Hardy County, WV.

Summary: EPA continues to have environmental concerns about impacts to a cold water stream and loss of wetland resources, and requested additional information on project need, current conditions of the study area and secondary impacts of a water distribution system. Rating EC2.

Final EISs

EIS No. 20090183, ERP No. F-NRC-D06006-PA, Generic—License Renewal of Nuclear Plants, Supplement 36 to NUREG-1437, Regarding Beaver Valley Power Station, Units 1 and 2, Plant Specific, Issuing Nuclear Power Plant Operating License for an Additional 20-Year Period, PA.

Summary: EPA has no objection to the proposed action.

EIS No. 20090218, ERP No. F-NRC-D06007-PA, GENERIC—License Renewal of Nuclear Plants, Supplement 37 NUREG-1437, Regarding Three Mile Island Nuclear Station, Unit 1, Dauphin County, PA.

Summary: EPA continues to have environmental concerns about construction impacts.

EIS No. 20090281, ERP No. F-BLM-J01083-WY, South Gillette Area Coal Lease Applications, WYW172585, WYW173360, WYW172657, WYW161248, Proposal to Lease Four Tracts of Federal Coal Reserves, Belle Ayr, Coal Creek, Caballo, and Cordero Rojo Mines, Wyoming Powder River Basin, Campbell County, WY.

Summary: No formal comment letter was sent to the preparing agency.

EIS No. 20090301, ERP No. FS-NRS-B36121-WV, Lost River Subwatershed of the Potomac River Watershed Project, Construction of Site 16 on Lower Cove Run and Deletion of Site 23 on Cullers Run in the Lost River Watershed, Change in Purpose for Site 16 and Updates Information Relative to Site 23, U.S. Army COE Section 404 Permit, Hardy County, WV.

Summary: EPA continues to have environmental concerns about wetland and cold water stream impacts, and requested additional information on current environmental conditions and the function of structures already in the watershed.

Dated: October 27, 2009.
Robert W. Hargrove,
Director, NEPA Compliance Division, Office of Federal Activities.

[FR Doc. E9-26218 Filed 10-29-09; 8:45 am]

BILLING CODE 6560-50-P